ENVIRONMENTAL PROTECTION AGENCY

[EPA-HQ-OAR-2021-0116; FRL-12764-01-OMS]

Agency Information Collection Activities; Submission to the Office of Management and Budget for Review and Approval; Comment Request; NESHAP for Plating and Polishing Area Sources (Renewal)

AGENCY: Environmental Protection Agency (EPA).

ACTION: Notice.

SUMMARY: The Environmental Protection Agency (EPA) has submitted an information collection request (ICR), NESHAP for Plating and Polishing Area Sources (EPA ICR Number 2294.07, OMB Control Number 2060-0623) to the Office of Management and Budget (OMB) for review and approval in accordance with the Paperwork Reduction Act. This is a proposed extension of the ICR, which is currently approved through May 31, 2025. Public comments were previously requested via the Federal Register on August 6, 2024 during a 60-day comment period. This notice allows for an additional 30 days for public comments.

DATES: Comments may be submitted on or before June 9, 2025.

ADDRESSES: Submit your comments, referencing Docket ID Number EPA-HQ-OAR-2021-0116, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through May 31, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Plating and Polishing Area Sources (40 CFR part 63, subpart WWWWWW) were proposed on March 14, 2008; promulgated on July 1, 2008; and most-recently amended on both September 19, 2011 and November 19, 2020.¹ These regulations apply to both existing and new plating and polishing facilities that are an area source of hazardous air pollutant (HAP) emissions and that use one or more of the following metal HAP: cadmium, chromium, lead manganese, or nickel (hereafter referred to as the plating and polishing metal HAP).

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. This information is being collected to assure compliance with 40 CFR part 63, subpart WWWWWW.

Form Numbers: None.

Respondents/affected entities: Plating and polishing area source facilities.

Respondent's obligation to respond: Mandatory (40 CFR part 63, subpart WWWWWW).

Estimated number of respondents: 2,900 (total).

Frequency of response: Annually.

Total estimated burden: 67,700 hours (per year). Burden is defined at 5 CFR 1320.03(b).

Total estimated cost: $9,270,000 (per year), which includes $0 annualized capital or operation & maintenance costs.

Changes in the Estimates: There is no change in hours in the total estimated respondent burden compared with the ICR currently approved by OMB. This is due to two considerations. First, the regulations have not changed over the past three years and are not anticipated to change over the next three years. Second, the growth rate for this industry is very low or non-existent, so there is no significant change in the overall burden. Since there are no changes in the regulatory requirements and there is no significant industry growth, there are also no changes in the capital/startup or operation and maintenance (O&M) costs.

Courtney Kerwin,
Director, Information Engagement Division.

[FR Doc. 2025-08085 Filed 5-7-25; 8:45 am]

BILLING CODE 6560-50-P